COMMITTEE FOR THE IMPLEMENTATION OF TEXTILE AGREEMENTS

Denial of Commercial Availability Request Under the United States-Caribbean Basin Trade Partnership Act (CBTPA)

December 15, 2004.

AGENCY: Committee for the Implementation of Textile Agreements (CITA).

ACTION: Denial of the request alleging that certain colored open end spun yarns for use in chief weight cotton sweaters cannot be supplied by the domestic industry in commercial quantities in a timely manner under the CBTPA.

SUMMARY: On October 12, 2004, the Chairman of CITA received a petition from Sandler, Travis & Rosenberg, P.A., on behalf of Bernette Textile Co, LLC of New York, NY, alleging that certain colored open end spun yarns ranging in size from 6/1 to 18/1 English count (10.16/1 to 30.47/1 metric) of a blend of reclaimed and reprocessed cotton and acrylic staple fiber, for use in chief weight cotton sweaters, cannot be supplied by the domestic industry in commercial quantities in a timely manner. The petition requested that such apparel made from such yarn be eligible for preferential treatment under the CBTPA.

SUPPLEMENTARY INFORMATION:

Authority: Section 213(b)(2)(A)(v)(II) of the Caribbean Basin Economic Recovery Act, as added by Section 211(a) of the CBTPA; Section 6 of Executive Order No. 13191 of January 17, 2001.

Background

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests (66 FR 13502).

On October 12, 2004, the Chairman of CITA received a petition from Sandler, Travis & Rosenberg, P.A., on behalf of Bernette Textile Co, LLC of New York, NY, alleging that certain colored open end spun yarns ranging in size from 6/1 to 18/1 English count (10.16/1 to 30.47/1 metric) of a blend of reclaimed and reprocessed cotton and acrylic staple fiber, for use in chief weight cotton sweaters, cannot be supplied by the domestic industry in commercial quantities in a timely manner. It requested that such apparel made from such yarn be eligible for preferential treatment under the CBTPA.

Specifications:

HTS Subheadings: 5206.11.00.00, 5206.12.00.00.

Description: Open end spun yarn of uncombed fibers.

Size: 10 to 31 metric count.

Fiber Content: In chief weight of cotton reclaimed from fabric scraps blended with producer dyed acrylic stable produced under license from Outlast Technologies, Inc.

On October 20, 2004, CITA published a Federal Register notice requesting public comments on the request, particularly with respect to whether these yarns can be supplied by the domestic industry in commercial quantities in a timely manner (69 FR 61658). On November 5, 2004, CITA and the Office of the U.S. Trade Representative offered to hold consultations with the relevant Congressional committees. We also requested the advice of the U.S. International Trade Commission and the relevant Industry Trade Advisory Committees.

Based upon the ITC report and information provided by the domestic industry, CITA finds that there is domestic capacity and ability to supply colored open end spun yarns of a blend of reclaimed and reprocessed cotton and acrylic staple fiber in commercial quantities and a timely manner. CITA finds that the assertion of a patent or license as a barrier to domestic production of the subject product is not a sufficient reason alone to conclude that the product cannot be supplied by domestic industry in commercial quantities in a timely manner.

On the basis of currently available information and our review of this request, CITA has determined that there is domestic capacity to supply the subject product in commercial quantities in a timely manner. Bernette's request is denied.

James C. Leonard, III,
Chairman, Committee for the Implementation of Textile Agreements.

[FR Doc. 04-27911 Filed 12-20-04; 8:45 am]

BILLING CODE 3510-DS-P